DEPARTMENT OF HEALTH AND HUMAN SERVICES (HHS)

HIT Standards Committee and HIT Policy Committee; Call for Nominations

AGENCY: Office of the National Coordinator for Health Information Technology, HHS.

ACTION: Call for Nominations.

Summary: The Office of the National Coordinator for Health Information Technology (ONC) is seeking nominations to the Health Information Technology Standards Committee (HITSC) and Health Information Technology Policy Committee (HITPC).

Name of Committees: HIT Standards Committee and HIT Policy Committee.

General Function of the Committees: The HITSC is charged to provide recommendations to the National Coordinator on standards, implementation specifications, and certification criteria for the electronic exchange and use of health information for purposes of adoption, consistent with the implementation of the Federal Health IT Strategic Plan, and in accordance with policies developed by the HIT Policy Committee.

The HITPC is charged to provide recommendations to the National Coordinator on a policy framework for the development and adoption of a nationwide health information technology infrastructure that permits the electronic exchange and use of health information as is consistent with the Federal Health IT Strategic Plan and that includes recommendations on the areas in which standards, implementation specifications, and certification criteria are needed.

Date and Time: Nominations must be received by 12:00 p.m. on Monday, March 3, 2014.

Contact Person: Michelle Consolazio, Office of the National Coordinator, HHS, 355 E Street SW., Washington, DC 20024, phone: 781-710-0786, email: michelle.consolazio@hhs.gov.

Background: The HIT Standards Committee was established under the American Recovery and Reinvestment Act 2009 (ARRA) (Pub. L. 111-5), section 13101, new Section 3003. Members of the HIT Standards Committee are appointed by the Secretary, HHS and shall at least reflect providers, ancillary healthcare workers, consumers, purchasers, health plans, technology vendors, researchers, relevant Federal agencies, and individuals with technical expertise on health care quality, privacy and security, and on the electronic exchange and use of health information. Nominees of the HITSC should have experience promoting the meaningful use of health information technology and be knowledgeable in areas such as: small innovative health care providers, providers participating in payment reform initiatives, accountable care organizations, pharmacists, behavioral health professionals, home health care, purchaser or employer representatives, patient safety, health information technology security, big data, consumer e-health, personal health records, and mobile health applications.

The HIT Policy Committee was established under the American Recovery and Reinvestment Act 2009 (ARRA) (Pub. L. 111-5), section 13101, new Section 3002. Members of the HIT Policy Committee are appointed in the following manner: 3 members appointed by the Secretary, HHS; 4 members appointed by Congress; 13 members appointed by the Comptroller General of the United States; and other federal members appointed by the President. Nominations are being accepted for one of the three members appointed by the Secretary of HHS. Nominees of the HITPC should have experience promoting the meaningful use of health information technology and be knowledgeable in privacy and security issues related to health information.

Members will be selected in order to achieve a balanced representation of viewpoints, areas of experience, subject matter expertise, and representation of the health care system. Terms will be three (3) years from the appointment date to either the HITSC or HITPC. Members on both Committees serve without pay. However, members will be provided per diem and travel costs for Committee services.

The HITSC will be seeking nominations for the following areas of expertise:

• Consumer/Patient Representative

• Technical Expertise, Electronic Exchange

• Technical Expertise, Quality

The HITPC will be seeking nominations for the following area of expertise:

• Public Health Representative

Current HITSC and HITPC members in their first term of service with an expiring term are allowed to reapply for a second term.

For more information about the HITSC please visit: http://www.healthit.gov/FACAS/health-it-standards-committee. For more information about the HITPC please visit: http://www.healthit.gov/FACAS/health-it-policy-committee.

Submitting Nominations: Nominations should be submitted electronically through the application database that will be linked to the FACA application page on the HealthIT.gov Web site at: http://www.healthit.gov/facas/faca-workgroup-membership-application. All nominations must be compiled and submitted in one complete nomination package. A nomination package must include: A short bio, a current CV including contact information and memberships with professional organizations/advisory committees, and two letters of support.

Dated: February 5, 2014.
Michelle Consolazio,
FACA Program Lead, Office of Policy and Planning, Office of the National Coordinator for Health Information Technology.

[FR Doc. 2014-03126 Filed 2-12-14; 8:45 am]

BILLING CODE 4150-45-P